DEPARTMENT OF HOMELAND SECURITY

Coast Guard

46 CFR Part 67

[USCG-2016-0531]

Vessel Documentation Regulations—Technical Amendments

Correction

In rule document 2017-20023 beginning on page 43858 in the issue of Wednesday, September 20, 2017, make the following correction:

§ 67.3 [Corrected]

In § 67.3, on page 43863, in the third column, in the sixth through eighth lines, “redesignate paragraphs (a) and (b) as paragraphs (1) and (2);” should read “redesignate paragraphs (a) through (c) as paragraphs (1) through (3);”.

[FR Doc. C1-2017-20023 Filed 12-13-17; 8:45 am]

BILLING CODE 1301-00-D